DEPARTMENT OF COMMERCE

International Trade Administration

The Manufacturing Council: Meeting of the Manufacturing Council

AGENCY: International Trade Administration, U.S. Department of Commerce.

ACTION: Notice of a meeting via teleconference.

SUMMARY: The Manufacturing Council will hold a meeting via teleconference to deliberate a draft letter of recommendation to the Secretary of Commerce.

DATES: August 25, 2009.

Time: 11 a.m. (EDT).

For the Conference Call-in Number and Further Information, Please Contact: The Manufacturing Council Executive Secretariat, Room 4043, Washington, DC 20230 (Phone: 202-482-4501), or e-mail the Executive Secretary at Marc.Chittum@mail.doc.gov.

Dated: August 5, 2009.
J. Marc Chittum,
Executive Secretary, the Manufacturing Council.

[FR Doc. E9-19212 Filed 8-10-09; 8:45 am]

BILLING CODE 3510-DR-P